DEPARTMENT OF THE TREASURY

Office of Thrift Supervision

[AC-2: OTS Nos. H-4152 and 06210]

First Federal of Northern Michigan Bancorp, Inc., Alpena, MI; Approval of Conversion Application

Notice is hereby given that on February 11, 2005, the Assistant Managing Director, Examinations and Supervision—Operations, Office of Thrift Supervision (OTS), or her designee, acting pursuant to delegated authority, approved the application of First Federal of Northern Michigan, Alpena, Michigan, to convert to the stock form of organization. Copies of the application are available for inspection by appointment (phone number: 202-906-5922 or e-mail: Public.Info@OTS.Treas.gov) at the Public Reading Room, 1700 G Street, NW., Washington, DC 20552, and OTS Southeast Regional Office, 1475 Peachtree Street, NE., Atlanta, GA 30309.

Dated: February 18, 2005.
By the Office of Thrift Supervision.
Nadine Y. Washington,
Corporate Secretary.

[FR Doc. 05-3547 Filed 2-23-05; 8:45 am]

BILLING CODE 6720-01-M